DEPARTMENT OF DEFENSE

Department of the Army

Availability of the Final Environmental Impact Statement for the Digital Multi-Purpose Range Complex at Fort Benning, GA

AGENCY: Department of the Army, DoD.

ACTION: Notice of availability.

SUMMARY: The Digital Multi-Purpose Range Complex (DMPRC) would provide gunnery training facilities for the Bradley Fighting Vehicle (BFV) and the Abrams M1A1 Tank System (Tank), providing the capability for both active and reserve components to train to required standards under realistic conditions. Fort Benning proposes to construct, operate, and maintain a DMPRC. The DMPRC would provide a state-of-the-art range facility to meet the Army's training needs for soldiers to conduct gunnery courses in a realistic training environment by expanding the Installation's training capacity. The current ranges on Fort Benning do not meet modern gunnery standards and are inadequate to support full gunnery training and qualifications, requiring training to modified standards. The project would include construction of the firing and target area, installation of fiber optics, construction of support facilities, upgrading and construction of associated roadways, installation of utilities to support the site, construction of a helipad, construction of other related equipment and facilities, and operation and maintenance of the DMPRC.

DATES: To be considered in preparation for the Record of Decision (ROD), comments must be received not later than June 7, 2004.

ADDRESSES: Please direct written comments or requests for copies of the Final Environmental Impact statement (FEIS) to Mr. Richard McDowell, Public Affairs Officer, U.S. Army Infantry Center, ATTN: ATZB-PO, Fort Benning, GA 31905-5122 or e-mail to mcdowellr@benning.army.mil. Comments may also be submitted via the Fort Benning Web site: www-benning.army.mil/EMD/dmprcLegal&PublicNotices.htm (where the FEIS is also available for review).

FOR FURTHER INFORMATION CONTACT: Mr. Richard McDowell, Public Affairs Officer, U.S. Army Infantry Center, ATTN: ATZB-PO, Fort Benning, GA 31905-5122, (706) 545-2211, or e-mail to mcdowellr@benning.army.mil.

SUPPLEMENTARY INFORMATION: Fort Benning is the “Home of the Infantry” and conducts training for elements of Mechanized Infantry Division units. Tank and BFV crews must train and qualify at different skill levels (gunnery tables) that are designed to develop and test the proficiency level of individuals, crews, and platoons. Existing facilities at Fort Benning do not currently meet training standards for advanced gunnery qualification. Specifically, the existing range targetry is antiquated; the natural terrain features of Hastings Range hamper training effectiveness and efficiency; the nearness to the Installation boundary restricts training due to noise; and the lack of digital components on the existing range delays the analysis of the training exercise.

The Army proposes to construct, operate, and maintain a DMPRC. The FEIS analyzes the No Action/Status Quo and two action alternatives. The notice of intent to prepare an EIS for the DMPRC included another alternative, Transport to Fort Stewart; however, further analysis determined that this alternative was not reasonable. Alternatives considered in detail in the FEIS are:

1. No Action—Continue to conduct gunnery training on existing ranges on Fort Benning, utilizing existing facilities.

2. Construct, operate and maintain a DMPRC in Training Compartment K21 on Fort Benning. The range dimensions would be approximately 1,500 meters by 4,500 meters and cover about 1,800 acres plus support facilities; however these dimensions would be subject to site-specific design requirements and may be modified. The DMRPC would include a firing and target area with 3 tank trails, numerous stationary and moving targets, trenches and berms, maintenance roads; a helipad; utilities and communication systems; and support facilities on about 25 acres including control and instruction buildings, maintenance and storage buildings. The DMPRC would include a safety zone that is inaccessible during operation of the range.

3. Preferred Alternative—Construct, operate and maintain a DMPRC in Training Compartment D13 on Fort Benning with the same approximate dimensions and facilities as described for Alternative 2.

Both Alternatives 2 and 3 would also include changes in training on other ranges (Cactus, Carmouche, and Hastings) to incorporate the new DMPRC into the training regime.

The DMPRC FEIS includes analyses of the potential environmental consequences, including cumulative impacts that each alternative may have on many environmental and socioeconomic resources or topics, including: Soils and vegetation, water quality, wetlands and streambanks, unique ecological areas, Federally and state listed species, migratory birds, socioeconomics, land use, cultural resources, utilities, noise, air quality, public health and safety, hazardous materials and wastes, and transportation. The findings indicate that the No Action alternative has the fewest potential impacts because no construction is proposed; however, noise concerns would continue and the needed improvement in range facilities would not be achieved. Alternatives 2 and 3 would have some potential adverse impacts to several of the studied resources; however, mitigations to either avoid or reduce those impacts are identified in the FEIS, and both alternatives would result in less noise disturbance from BFV and tank weaponry firing.

Joseph H. Plunkett,
Director, Southeast Region, U.S. Army Installation Management Agency.

[FR Doc. 04-10448 Filed 5-6-04; 8:45 am]

BILLING CODE 3710-08-M